DEPARTMENT OF ENERGY

Federal Energy Regulatory Commission

[Docket No. ER01-1703-001, et al.]

Solar Turbines Incorporated, et al.; Electric Rate and Corporate Regulation Filings

June 14, 2001.

Take notice that the following filings have been made with the Commission:

1. Solar Turbines Incorporated

[Docket No. ER01-1703-001]

Take notice that on June 8, 2001, Solar Turbines Inc., filed a Notice of Cancellation of its' FERC Electric Tariff No. 1.

Comment date: June 29, 2001, in accordance with Standard Paragraph E at the end of this notice.

2. American Transmission Company LLC

[Docket No. ER01-1586-001]

Take notice that on June 11, 2001, American Transmission Company LLC (ATCLLC) tendered for filing a rate schedule designation in compliance with a Commission letter order dated May 16, 2001.

The Commission has granted an effective date of January 1, 2001.

Comment date: July 2, 2001, in accordance with Standard Paragraph E at the end of this notice.

3. PPL Wallingford Energy LLC

[Docket No. ER01-1559-001]

Take notice that on June 11, 2001, PPL Wallingford Energy LLC (PPL Wallingford) filed with the Commission a revised tariff sheet to PPL Wallingford's FERC Electric Tariff Original Volume No. 1 in compliance with the Letter Order issued on May 10, 2001 in Docket No. ER01-1559-000. The revision incorporates a prohibition on power purchases from any affiliated public utility with a franchised service territory absent a separate filing under Section 205 of the Federal Power Act.

PPL Wallingford states that copies of this filing have been served upon each person designated on the official service list compiled by the Secretary in this proceeding.

Comment date: July 2, 2001, in accordance with Standard Paragraph E at the end of this notice.

4. Louisville Gas and Electric Company/Kentucky Utilities Company

[Docket No. ER01-2242-000]

Take notice that on June 7, 2001, Louisville Gas and Electric Company (LG&E)/Kentucky Utilities(KU) (hereinafter Companies) tendered for filing an executed Netting Agreement between the Companies and Northern Indiana Public Service Company.

Comment date: June 28, 2001, in accordance with Standard Paragraph E at the end of this notice.

5. Sithe Power Marketing, Inc.

[Docket No. ER01-2272-000]

Take notice that on June 11, 2001, Sithe Power Marketing, Inc., filed a Notice of Cancellation of its' FERC Electric Rate Schedules Nos. 1 and 2.

Notice of the proposed cancellation has not been served upon any party because such cancellation affects no purchasers under SPMI's FERC Electric Rate Schedules Nos. 1 and 2.

Comment date: June 29, 2001, in accordance with Standard Paragraph E at the end of this notice.

6. American Transmission Company LLC

[Docket No. ER01-2273-000]

Take notice that on June 8, 2001, American Transmission Company LLC (ATCLLC) tendered for filing a Firm and Non-Firm Point-to-Point Service Agreement between ATCLLC and Coral Power, L.L.C. ATCLLC requests an effective date of May 11, 2001.

Comment date: June 29, 2001, in accordance with Standard Paragraph E at the end of this notice.

7. Kincaid Generation, L.L.C.

[Docket No. ER01-2274-000]

Take notice that on June 8, 2001, Kincaid Generation, L.L.C. tendered for filing an amended and restated service agreement for sales of energy and capacity to Exelon Generation Company, LLC.

Comment date: June 29, 2001, in accordance with Standard Paragraph E at the end of this notice.

8. Duquesne Light Company

[Docket No. ER01-2275-000]

Take notice that on June 11, 2001, Duquesne Light Company (DLC) filed a Service Agreement dated June 8, 2001 with Calpine Energy Services, LP under DLC's Open Access Transmission Tariff (Tariff). The Service Agreement adds Calpine Energy Services, LP as a customer under the Tariff.

DLC requests an effective date of June 8, 2001 for the Service Agreement.

Comment date: July 2, 2001, in accordance with Standard Paragraph E at the end of this notice.

9. Duquesne Light Company

[Docket No. ER01-2276-000]

Take notice that on June 11, 2001, Duquesne Light Company (DLC) filed a Service Agreement dated June 8, 2001 with Axia Energy, LP under DLC's Open Access Transmission Tariff (Tariff). The Service Agreement adds Axia Energy, LP as a customer under the Tariff.

DLC requests an effective date of June 8, 2001 for the Service Agreement.

Comment date: July 2, 2001, in accordance with Standard Paragraph E at the end of this notice.

10. Duquesne Light Company

[Docket No. ER01-2277-000]

Take notice that on June 11, 2001, Duquesne Light Company (DLC) filed a Service Agreement dated June 8, 2001 with Calpine Energy Services, LP under DLC's Open Access Transmission Tariff (Tariff). The Service Agreement adds Calpine Energy Services, LP as a customer under the Tariff.

DLC requests an effective date of June 8, 2001 for the Service Agreement.

Comment date: July 2, 2001, in accordance with Standard Paragraph E at the end of this notice.

11. Duquesne Light Company

[Docket No. ER01-2278-000]

Take notice that on June 11, 2001, Duquesne Light Company (DLC) filed a Service Agreement dated June 8, 2001 with Axia Energy, LP under DLC's Open Access Transmission Tariff (Tariff). The Service Agreement adds Axia Energy, LP as a customer under the Tariff.

DLC requests an effective date of June 8, 2001 for the Service Agreement.

Comment date: July 2, 2001, in accordance with Standard Paragraph E at the end of this notice.

12. Southern Company Services, Inc.

[Docket No. ER01-2279-000]

Take notice that on June 11, 2001, Southern Company Services, Inc. (SCS), acting on behalf of Alabama Power Company (APC), filed an Interconnection Agreement (IA) by and between APC and Duke Energy Autauga, LLC (Duke Energy). The IA allows Duke Energy to interconnect its generating facility to be located in Autauga County, Alabama, to APC's electric system.

An effective date of June 11, 2001 has been requested.

Comment date: July 2, 2001, in accordance with Standard Paragraph E at the end of this notice.

13. Central Maine Power Company

[Docket No. ER01-2280-000]

Please take notice that on June 11, 2001, Central Maine Power Company (CMP) tendered for filing the Executed Interconnection Agreement by and between CMP and Forster Inc., designated rate schedule FERC Electric Tariff, Fifth Revised, Volume No. 3, Service Agreement No. 127, and the Executed Service Agreement for Non-Firm Local Point-to-Point Transmission Service, designated rate schedule FERC Electric Tariff, Fifth Revised, Volume No. 3, Service Agreement No. 128.

Comment date: July 2, 2001, in accordance with Standard Paragraph E at the end of this notice.

14. Wisconsin Electric Power Company

[Docket No. ER01-2281-000]

Take notice that on June 11, 2001, Wisconsin Electric Power Company, filed a Notice of Cancellation of its Rate Schedule FERC No. 91.

Copies of the filing have been served on the City of Oconto Falls, Michigan Public Service Commission, and the Public Service Commission of Wisconsin.

Comment date: July 2, 2001, in accordance with Standard Paragraph E at the end of this notice.

15. Allegheny Energy Service Corporation, on behalf of Monongahela Power Company, The Potomac Edison Company, and West Penn Power Company (Allegheny Power)

[Docket No. ER01-2282-000]

Take notice that on June 11, 2001, Allegheny Energy Service Corporation on behalf of Monongahela Power Company, The Potomac Edison Company, and West Penn Power Company (“Allegheny Power”), filed a request to terminate transmission service to Utility.com provided under Allegheny Power's Open Access Transmission Tariff as Service Agreement No. 279.

Allegheny Power has requested waiver of notice to permit the termination to be effective on June 15, 2001.

Comment date: July 2, 2001, in accordance with Standard Paragraph E at the end of this notice.

16. Duke Energy Corporation

[Docket No. ER01-2283-000]

Take notice that on June 11, 2001, Duke Energy Corporation (Duke) tendered for filing a Service Agreement with Dynegy Power Marketing, Inc. for Firm Transmission Service under Duke's Open Access Transmission Tariff.

Duke requests that the proposed Service Agreement be permitted to become effective on May 30, 2001. Duke states that this filing is in accordance with Part 35 of the Commission's Regulations and a copy has been served on the North Carolina Utilities Commission.

Comment date: July 2, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15581 Filed 6-20-01; 8:45 am]

BILLING CODE 6717-01-M